DEPARTMENT OF AGRICULTURE

Animal and Plant Health Inspection Service

7 CFR Part 340

[Docket No. 03-031-3]

Environmental Impact Statement; Introduction of Genetically Engineered Organisms

AGENCY: Animal and Plant Health Inspection Service, USDA.

ACTION: Notice of intent to prepare an environmental impact statement and proposed scope of study; reopening of comment period.

SUMMARY: We are reopening the comment period for a notice of intent to prepare an environmental impact statement that we published in connection with potential changes to the regulations regarding the importation, interstate movement, and environmental release of certain genetically engineered organisms. The earlier notice identified potential issues and alternatives that will be studied in the environmental impact statement and requested public comment to further delineate the scope of the issues and alternatives. We are reopening the comment period to allow interested persons additional time to prepare and submit comments.

DATES: We will consider all comments that we receive on or before April 13, 2004.

ADDRESSES: You may submit comments by any of the following methods:

• Postal Mail/Commercial Delivery: Please send four copies of your comment (an original and three copies) to Docket No. 03-031-2, Regulatory Analysis and Development, PPD, APHIS, Station 3C71, 4700 River Road Unit 118, Riverdale, MD 20737-1238. Please state that your comment refers to Docket No. 03-031-2.

• E-mail: Address your comment to regulations@aphis.usda.gov. Your comment must be contained in the body of your message; do not send attached files. Please include your name and address in your message and “Docket No. 03-031-2” on the subject line.

• Agency Web Site: Go to http://www.aphis.usda.gov/ppd/rad/cominst.html for a form you can use to submit an e-mail comment through the APHIS Web site.

• Federal eRulemaking Portal: Go to http://www.regulations.gov and follow the instructions for locating this docket and submitting comments.

Reading Room: You may read any comments that we receive on Docket No. 03-031-2 in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Ms. Stephanie Stephens, Environmental Services, PPD, APHIS, 4700 River Road Unit 149, Riverdale, MD 20737-1238; (301) 734-4836.

SUPPLEMENTARY INFORMATION:

Background

On January 23, 2004, we published in the Federal Register (69 FR 3271-3272, Docket No. 03-031-2) a notice that the Animal and Plant Health Inspection Service intends to prepare an environmental impact statement in connection with potential changes to the regulations regarding the importation, interstate movement, and environmental release of certain genetically engineered organisms.

Comments on that notice were required to be received on or before March 23, 2004. To provide interested persons additional time to prepare and submit comments, we are reopening the comment period on the notice until April 13, 2004. We will also consider all comments received between March 24, 2004 (the day after the close of the original comment period), and the date of this notice.

Done in Washington, DC, this 25th day of March, 2004.
Kevin Shea,
Acting Administrator, Animal and Plant Health Inspection Service.

[FR Doc. 04-7008 Filed 3-26-04; 8:45 am]

BILLING CODE 3410-34-P